DEPARTMENT OF HOUSING AND URBAN DEVELOPMENT

[Docket No. FR-4820-N-29]

Notice of Proposed Information Collection: Comment Request; Eligibility of a Nonprofit Corporation/Housing Consultant Certification

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

Dates: Comments Due Date: September 2, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddings@hud.gov.

FOR FURTHER INFORMATION CONTACT: Michael McCullough, Director, Office of Multifamily Housing Development, Department of Housing and Urban Development, 451 7th Street, SW., Washington, DC 20410, telephone (202) 708-1142 (this is not a toll free number) for copies of the proposed forms and other available information.

SUPPLEMENTARY INFORMATION: The Department is submitting the proposed information collection to OMB for review, as required by the Paperwork Reduction Act of 1995 (44 U.S.C. 35, is amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques of other forms of information technology, e.g., permitting electronic submission of responses.

This Notice also lists the following information:

Title of Proposal: Eligibility of a Nonprofit Corporation/Housing Consultant Certification.

OMB Control Number, if applicable: 2502-0057.

Description of the need for the information and proposed use: The Department wants to prevent incidences in which nonprofit transactions are actually controlled by a profit motivated entity rather than a nonprofit sponsor/mortgagor. The Department is required to make a determination that the nonprofit sponsor/mortgagor is acting on its own behalf and is not, either knowingly or unwittingly under the influence, control, or direction of any outside party seeking to derive a profit or gain from the proposed project. Additionally, the Department must determine if Housing Consultants hired by the sponsor/mortgagor are acting independently. The Department must also determine if the proposed services are sufficient to permit development, completion, and successful operation of the project, and if the proposed fees charged by the Housing Consultants are reasonable.

Agency form number, if applicable: HUD-3433, HUD-3434, HUD-3435, and HUD-92531.

Estimation of the total numbers of hours needed to prepare the information collection including number of respondents, frequency of response, and hours of response: The estimated total number of annual hours needed to prepare the information collection is 115; the number of respondents is 320 generating 320 annual responses; the frequency of response is on occasion or once during the application period; and the estimated time needed to prepare the response varies from 15 minutes to 45 minutes.

Status of the proposed information collection: Revision of a currently approved collection.

Authority: The Paperwork Reduction Act of 1995, 44 U.S.C., Chapter 35, as amended.

Dated: June 20, 2003.
John C. Wercher,
Assistant Secretary for Housing, Federal Housing Commissioner.

[FR Doc. 03-16512 Filed 6-30-03; 8:45 am]

BILLING CODE 4210-27-M